DEPARTMENT OF THE INTERIOR

U.S. Geological Survey

Agency Information Collection: Comment Request

AGENCY: United States Geological Survey (USGS), Interior.

ACTION: Notice of a new collection.

SUMMARY: To comply with the Paperwork Reduction Act of 1995 (PRA), we are notifying the public that we will submit to OMB a new information collection request (ICR) for review and approval. This notice provides the public an opportunity to comment on the paperwork burden of this collection.

DATES: You must submit comments on or before March 30, 2010.

ADDRESSES: Send your comments regarding this ICR to Phadrea Ponds, Information Collections Clearance Officer, U.S. Geological Survey, 2150-C Center Avenue, Fort Collins, CO 80525 (mail); (970) 226-9230 (fax); or pponds@usgs.gov (e-mail). Please reference Information Collection 1028-NEW—YRBDAS.

FOR FURTHER INFORMATION CONTACT: Jessica M. Montag by mail at U.S. Geological Survey, 2150-C Center Avenue, Fort Collins, CO 80526, or by telephone at (970) 226-9137.

SUPPLEMENTARY INFORMATION:

I. Abstract

The USGS is currently conducting a “proof-of-concept” project to develop a series of linked physical, biological and socioeconomic models to address global climate change in the Yakima River Basin (YRB). In support of this effort, the USGS acknowledges that there is a need to better understand the Yakama Nation's cultural connection and interactions with the resources of the YRB. We are working with tribal liaisons to develop a roster of potential Yakama Nation members to participate in a series of in-depth interviews. The anticipated outcome of the interviews will be critical information that is missing for YRB water resource management decisions.

II. Data

OMB Control Number: 1028-NEW. Title: Yakima River Basin Global Climate Change Decision Support System.

Respondent's Obligation: Voluntary.

Frequency of Collection: One-time.

Estimated Annual Number of Respondents: An estimated 32 Yakama Nation tribal members (proposing 2 individuals from the 14 tribes/bands and 4 Tribal Council members) will be asked to participate in this collection.

Affected Public: Yakama Nation tribal members.

Estimated Completion Time: 2 hours per interview.

Annual Burden Hours: 64 hours.

Estimated Annual Reporting and Recordkeeping “Hour” Burden: We estimate the interviews to last no more than 2 hours per respondent.

Estimated Annual Reporting and Recordkeeping “Non-Hour Cost”: We have not identified any “non-hour cost” burdens associated with this collection of information.

III. Request for Comments

To comply with the public consultation process, we publish this Federal Register notice announcing that we will submit this ICR to OMB for approval. The notice provided the required 60-day public comment period. We invite comments concerning this ICR on: (a) Whether the proposed collection of information is necessary for the agency to perform its duties, including whether the information is useful; (b) the accuracy of the agency's estimate of the burden on the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publically available at any time. While you can ask us in your comment to withhold your personal identifying information from public review, we cannot guarantee that we will be able to do so.

Dated: January 20, 2010.
Susan D. Haseltine,
Associate Director for Biology, U.S. Geological Survey.

[FR Doc. 2010-1821 Filed 1-28-10; 8:45 am]

BILLING CODE 4311-AM-P